DEPARTMENT OF VETERANS AFFAIRS

Advisory Committee: National Academic Affiliations Council Notice of Meeting

The Department of Veterans Affairs (VA) gives notice under Federal Advisory Committee Act, 5 U.S.C. App. 2 that the National Academic Affiliations Council will be held December 8, 2015-December 9, 2015 in the Office of Academic Affiliations (OAA) Conference Room, 1800 G Street NW., Suite 870, Washington, DC. The December 8th sessions will begin at 9:00 a.m. and end at 4:30 p.m. On December 9th, 2015, sessions will begin at 9:00 a.m. and adjourn at 1:00 p.m.

The purpose of the Council is to advise the Secretary on matters affecting partnerships between VA and its academic affiliates.

On December 8, the Council will receive an update on the Veterans Equitable Resource Allocation formula for education support; discuss strategies for continued Graduate Medical Education (GME) expansion authorized by the 2014 Veterans Access, Choice, and Accountability (VACAA) Act; review the consolidation of non-VA provider programs directed by Public Law 114-41; and examine potential new joint ventures with academic affiliates. On December 9, the Council will explore the revised ethics rules for special government employees serving on Federal advisory committees; and discuss future possibilities for VA academic affiliations that strengthen the 70 year legacy of VA Policy memorandum No. 2. The Council will receive public comments from 12:30 p.m. to 12:45 p.m. on December 9, 2015.

Interested persons may attend and present oral statements to the Council. A sign-in sheet for those who want to give comments will be available at the meeting. Individuals who speak are invited to submit a 1-2 page summary of their comments at the time of the meeting for inclusion in the official meeting record. Oral presentations will be limited to five minutes or less, depending on the number of participants. Interested parties may also provide written comments for review by the Council prior to the meeting or at any time, by email to, Steve.Trynosky@va.gov, or by mail to Stephen K. Trynosky J.D., MPH, MMAS, Designated Federal Officer, Office of Academic Affiliations (10A2D), 810 Vermont Avenue NW., Washington, DC 20420. Any member of the public wishing to attend or seeking additional information should contact Mr. Trynosky via email or by phone at (202) 461-6723.

Dated: November 3, 2015.
Jelessa Burney,
Federal Advisory Committee Management Officer.

[FR Doc. 2015-28310 Filed 11-5-15; 8:45 am]

BILLING CODE 8320-01-P